ARCHITECTURAL AND TRANSPORTATION BARRIERS COMPLIANCE BOARD

Meetings

AGENCY: Architectural and Transportation Barriers Compliance Board.

ACTION: Notice of meetings.

SUMMARY: The Architectural and Transportation Barriers Compliance Board (Access Board) plans to hold its regular committee and Board meetings in Washington, DC, Monday through Wednesday, September 9-11, 2019, at the times and location listed below.

DATES: The schedule of events is as follows:

Monday, September 9, 2019

10:00 a.m.-10:30 a.m.—Planning and Evaluation Committee

10:30 a.m.-Noon—Meeting with the Kiosk Manufacturers Association on the development of a code of practice for accessibility of self-service kiosks and point-of-sale machines

1:30 p.m.-2:00 p.m.—Technical Programs Committee

2:00 p.m.-3:30 p.m.—Ad Hoc Committee on Design Guidance

Tuesday, September 10, 2019

11:00 a.m.-Noon—Presentation on Accredited Standards Committee A117 on Architectural Features and Site Design of Public Buildings and Residential Structures for Persons with Disabilities

1:30 p.m.-3:00 p.m.—Ad Hoc Committee on Frontier Issues: Presentations on changing places restroom at O'Hare Airport and Comcast's Eye Control for TVs

3:30 p.m.-4:30 p.m.—Presentation on the Washington Metropolitan Area Transit Authority's Beacon Wayfinding Project

Wednesday, September 11, 2019

11:30 a.m.-Noon—Budget Committee

1:30 p.m.-3:00 p.m.—Board Meeting

ADDRESSES: Meetings will be held at the Access Board Conference Room, 1331 F Street NW, Suite 800, Washington, DC 20004.

FOR FURTHER INFORMATION CONTACT: For further information regarding the meetings, please contact David Capozzi, Executive Director, (202) 272-0010 (voice); (202) 272-0054 (TTY).

SUPPLEMENTARY INFORMATION: At the Board meeting scheduled on the afternoon of Wednesday, September 11, the Access Board will consider the following agenda items:

• Approval of July 10, 2019 draft meeting minutes (vote)

• Ad Hoc Committee Reports: Design Guidance; Frontier Issues

• Technical Programs Committee

• Planning and Evaluation Committee

• Budget Committee

• Election Assistance Commission Report

• Executive Director's Report

• Public Comment (final 15 minutes of the meeting)

Members of the public can provide comments either in-person or over the telephone during the final 15 minutes of the Board meeting on Wednesday, September 11, 2019. Any individual interested in providing comment is asked to pre-register by sending an email to bunales@access-board.gov with the subject line “Access Board meeting—Public Comment” with your name, organization, state, and topic of comment included in the body of your email. All emails to register for public comment must be received by Wednesday, September 4, 2019. Commenters will be provided with a call-in number and passcode before the meeting. Commenters will be called on in the order by which they are pre-registered. Due to time constraints, each commenter is limited to two minutes. The Board will listen respectfully to comments; however, they will not engage in dialogue or answer questions. The purpose of the public comments is to hear the public's views. Commenters on the telephone will be in a listen-only capacity until they are called on.

All meetings are accessible to persons with disabilities. An assistive listening system, Communication Access Realtime Translation (CART), and sign language interpreters will be available at the Board meeting and committee meetings. You may view the Wednesday, September 11, 2019 meeting through a live webcast from 1:30 p.m. to 3:00 p.m. at: www.access-board.gov/webcast. Persons attending Board meetings are requested to refrain from using perfume, cologne, and other fragrances for the comfort of other participants (see www.access-board.gov/the-board/policies/fragrance-free-environment for more information).

On September 12, 2019 from 9:30 a.m. to 4 p.m. the Board will hold a public hearing on draft advisory guidelines for aircraft onboard wheelchairs. For further information, see the Federal Register notice on the draft advisory guidelines, 84 FR 43100 (Aug. 20, 2019) or https://www.access-board.gov/onboard.

David M. Capozzi,
Executive Director.

[FR Doc. 2019-18565 Filed 8-27-19; 8:45 am]

BILLING CODE 8150-01-P